DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Division of State Programs—Management Reporting Tool (DSP-MRT) (OMB No. 0930-0354)—Revision

The Substance Abuse and Mental Health Services Administration's (SAMHSA) Center for Substance Abuse Prevention (CSAP) aims to monitor several substance abuse prevention programs through the DSP-MRT, which reports data using the Strategic Prevention Framework (SPF). Programs monitored through the DSP-MRT include: SPF-Partnerships for Success, SPF- Prescription Drugs, Prescription Drug Overdose, and First Responder-Comprehensive Addiction and Recovery Act. This request for data collection includes a revision from a previously approved OMB instrument.

Monitoring data using the SPF model will allow SAMHSA's project officers to systematically collect data to monitor their grant program. In addition to assessing activities related to the SPF steps, the performance monitoring instruments covered in this statement collect data to assess the following grantee required specific performance measures:

• Number of training and technical assistance activities per funded community provided by the grantee to support communities

• Number of training and technical assistance activities (numbers served) provided by the grantee

• Number of subrecipient communities that improved on one or more targeted National Outcome Measures

• Number of grantees who integrate Prescription Drug Monitoring Program (PDMP) data into their program needs assessment

• Number of naloxone toolkits distributed

Changes to this package include the following:

• Inclusion of Intervention names in the standard tool

• Inclusion of Community outcomes reporting

• Inclusion of questions on training services requested and referrals/receiving treatment services in the PDO/FR-CARA supplemental section

Annualized Data Collection Burden
Instrument | Number of respondents | Responses per respondent | Total number of responses | Hours per response | Total burden hours
Standard DSP Monitoring Tool | 117 | 4 | 468 | 3 | 1,404
Section A: Rx | 25 | 2 | 63 | 1 | 42
Section B: PDO/FR CARA | 23 | 4 | 100 | 1 | 100
Section C: PFS | 71 | 1 | 71 | 3 | 213
FY2020 Total | 117 |  | 702 |  | 1,759

Send comments to Summer King, SAMHSA Reports Clearance Officer, 5600 Fishers Lane, Room 15E57-B, Rockville, Maryland 20857, OR email a copy to summer.king@samhsa.hhs.gov. Written comments should be received by July 20, 2018.

Summer King,
Statistician.

[FR Doc. 2018-10716 Filed 5-18-18; 8:45 am]

BILLING CODE 4162-20-P